DEPARTMENT OF HEALTH AND HUMAN SERVICES

National Institutes of Health

Public Hearing

SUMMARY: The National Institutes of Health (NIH) will hold a public meeting on Thursday, April 19, 2012, from 6:30-9:30 p.m. at Roxbury Community College, Main Stage, 1234 Columbus Avenue, Boston, MA 02120. The purpose of the meeting is to solicit public comments regarding the Draft Supplementary Risk Assessment for the National Emerging Infectious Diseases Laboratories. Comments provided during the meeting, as well as those received during the public comment period, will be considered in NIH's preparation of the Final Supplementary Risk Assessment for the National Emerging Infectious Diseases Laboratories. Individuals wishing to provide oral comments at the meeting must sign-in prior to the start of the meeting. Sign-in will begin at 5:30 p.m. In order to ensure everyone has the opportunity to speak, comments must be limited to no longer than three minutes. An agenda, slides for the meeting, and the draft supplementary risk assessment will be available at: http://nihblueribbonpanel-bumc-neidl.od.nih.gov/meetings.asp. This public meeting is part of the 67-day public comment period initiated with the publication of a Notice of Availability in the Federal Register on February 24, 2012. The 67-day comment period began on February 24, 2012 and will end on May 1, 2012. Written comments can also be sent to: National Institutes of Health, ATTN: NEIDL Risk Assessment, 6705 Rockledge Drive, Suite 750, Bethesda, MD 20892, or emailed to NIH_BRP@od.nih.gov.

For further information concerning this meeting, please contact Office of Biotechnology Activities, National Institutes of Health, 6705 Rockledge Drive, Suite 750, Bethesda, MD 20892; telephone: 301-496-9838; email: BRP_NIH@od.nih.gov. Requests for reasonable accommodations or translation services should be made to BRP_NIH@od.nih.gov no later than April 12, 2012.

Dated: March 7, 2012.
Kelly Fennington,
Senior Health Policy Analyst, Office of Science Policy, National Institutes of Health.

[FR Doc. 2012-6567 Filed 3-16-12; 8:45 am]

BILLING CODE 4140-01-P